Executive Order 13354 of August 27, 2004

National Counterterrorism Center

By the authority vested in me as President by the Constitution and laws of the United States of America, including section 103(c)(8) of the National Security Act of 1947, as amended (Act), and to protect the security of the United States through strengthened intelligence analysis and strategic planning and intelligence support to operations to counter transnational terrorist threats against the territory, people, and interests of the United States of America, it is hereby ordered as follows:

Section 1. Policy. (a) To the maximum extent consistent with applicable law, agencies shall give the highest priority to (i) the detection, prevention, disruption, preemption, and mitigation of the effects of transnational terrorist activities against the territory, people, and interests of the United States of America, (ii) the interchange of terrorism information among agencies, (iii) the interchange of terrorism information between agencies and appropriate authorities of States and local governments, and (iv) the protection of the ability of agencies to acquire additional such information.

(b) Agencies shall protect the freedom, information privacy, and other legal rights of Americans in the conduct of activities implementing section 1(a) of this order.

Sec. 2. Establishment of National Counterterrorism Center. (a) There is hereby established a National Counterterrorism Center (Center).

(b) A Director of the Center shall supervise the Center.

(c) The Director of the Center shall be appointed by the Director of Central Intelligence with the approval of the President.

(d) The Director of Central Intelligence shall have authority, direction, and control over the Center and the Director of the Center.

Sec. 3. Functions of the Center. The Center shall have the following functions:

(a) serve as the primary organization in the United States Government for analyzing and integrating all intelligence possessed or acquired by the United States Government pertaining to terrorism and counterterrorism, excepting purely domestic counterterrorism information. The Center may, consistent with applicable law, receive, retain, and disseminate information from any Federal, State, or local government, or other source necessary to fulfill its responsibilities concerning the policy set forth in section 1 of this order; and agencies authorized to conduct counterterrorism activities may query Center data for any information to assist in their respective responsibilities;

(b) conduct strategic operational planning for counterterrorism activities, integrating all instruments of national power, including diplomatic, financial, military, intelligence, homeland security, and law enforcement activities within and among agencies;

(c) assign operational responsibilities to lead agencies for counterterrorism activities that are consistent with applicable law and that support strategic plans to counter terrorism. The Center shall ensure that agencies have access to and receive intelligence needed to accomplish their assigned activities. The Center shall not direct the execution of operations. Agencies shall inform the National Security Council and the Homeland Security Council of any objections to designations and assignments made by the Center in the planning and coordination of counterterrorism activities;

(d) serve as the central and shared knowledge bank on known and suspected terrorists and international terror groups, as well as their goals, strategies, capabilities, and networks of contacts and support; and

(e) ensure that agencies, as appropriate, have access to and receive all-source intelligence support needed to execute their counterterrorism plans or perform independent, alternative analysis.

Sec. 4. Duties of the Director of Central Intelligence. The Director of Central Intelligence shall:

(a) exercise the authority available by law to the Director of Central Intelligence to implement this order, including, as appropriate, the authority set forth in section 102(e)(2)(H) of the Act;

(b) report to the President on the implementation of this order, within 120 days after the date of this order and thereafter not less often than annually, including an assessment by the Director of Central Intelligence of:

(1)

the effectiveness of the United States in implementing the policy set forth in section 1 of this order, to the extent execution of that policy is within the responsibilities of the Director of Central Intelligence;

(2)

the effectiveness of the Center in the implementation of the policy set forth in section 1 of this order, to the extent execution of that policy is within the responsibilities of the Director of Central Intelligence; and

(3)

the cooperation of the heads of agencies in the implementation of this order; and

(c) ensure the performance of all-source intelligence analysis that, among other qualities, routinely considers and presents alternative analytical views to the President, the Vice President in the performance of executive functions, and other officials of the executive branch as appropriate.

Sec. 5. Duties of the Director of the Center. In implementing the policy set forth in section 1 of this order and ensuring that the Center effectively performs the functions set forth in section 3 of this order, the Director of the Center shall:

(a) access, as deemed necessary by the Director of the Center for the performance of the Center's functions, information to which the Director of the Center is granted access by section 6 of this order;

(b) correlate, analyze, evaluate, integrate, and produce reports on terrorism information;

(c) disseminate transnational terrorism information, including current terrorism threat analysis, to the President, the Vice President in the performance of Executive functions, the Secretaries of State, Defense, and Homeland Security, the Attorney General, the Director of Central Intelligence, and other officials of the executive branch as appropriate;

(d) support the Department of Homeland Security, and the Department of Justice, and other appropriate agencies, in fulfillment of their responsibility to disseminate terrorism information, consistent with applicable law, Executive Orders and other Presidential guidance, to State and local government officials, and other entities, and coordinate dissemination of terrorism information to foreign governments when approved by the Director of Central Intelligence;

(e) establish both within the Center, and between the Center and agencies, information systems and architectures for the effective access to and integration, dissemination, and use of terrorism information from whatever sources derived;

(f) undertake, as soon as the Director of Central Intelligence determines it to be practicable, all functions assigned to the Terrorist Threat Integration Center;

(g) consistent with priorities approved by the President, assist the Director of Central Intelligence in establishing requirements for the Intelligence Community for the collection of terrorism information, to include ensuring military force protection requirements are met;

(h) under the direction of the Director of Central Intelligence, and in consultation with heads of agencies with organizations in the Intelligence Community, identify, coordinate, and prioritize counterterrorism intelligence requirements for the Intelligence Community; and

(i) identify, together with relevant agencies, specific counterterrorism planning efforts to be initiated or accelerated to protect the national security.

Sec. 6. Duties of the Heads of Agencies. (a) To implement the policy set forth in section 1 of this order:

(i)

the head of each agency that possesses or acquires terrorism information:

(A)

shall promptly give access to such information to the Director of the Center, unless prohibited by law (such as section 103(c)(7) of the Act or Executive Order 12958, as amended) or otherwise directed by the President;

(B)

shall cooperate in and facilitate the production of reports based on terrorism information with contents and formats that permit dissemination that maximizes the utility of the information in protecting the territory, people, and interests of the United States; and

(C)

shall cooperate with the Director of Central Intelligence in the preparation of the report to the President required by section 4 of this order; and

(ii)

the head of each agency that conducts diplomatic, financial, military, homeland security, intelligence, or law enforcement activities relating to counterterrorism shall keep the Director of the Center fully and currently informed of such activities, unless prohibited by law (such as section 103(c)(7) of the Act or Executive Order 12958, as amended) or otherwise directed by the President.

(b) The head of each agency shall, consistent with applicable law, make available to the Director of the Center such personnel, funding, and other resources as the Director of Central Intelligence, after consultation with the head of the agency and with the approval of the Director of the Office of Management and Budget, may request. In order to ensure maximum information sharing consistent with applicable law, each agency representative to the Center, unless otherwise specified by the Director of Central Intelligence, shall operate under the authorities of the representative's agency.

Sec. 7. Definitions. As used in this order:

(a) the term “agency” has the meaning set forth for the term “executive agency” in section 105 of title 5, United States Code, together with the Department of Homeland Security, but includes the Postal Rate Commission and the United States Postal Service and excludes the Government Accountability Office;

(b) the term “Intelligence Community” has the meaning set forth for that term in section 3.4(f) of Executive Order 12333 of December 4, 1981, as amended;

(c) the terms “local government”, “State”, and, when used in a geographical sense, “United States” have the meanings set forth for those terms in section 2 of the Homeland Security Act of 2002 (6 U.S.C. 101); and

(d) the term “terrorism information” means all information, whether collected, produced, or distributed by intelligence, law enforcement, military, homeland security, or other United States Government activities, relating to (i) the existence, organization, capabilities, plans, intentions, vulnerabilities, means of finance or material support, or activities of foreign or international terrorist groups or individuals, or of domestic groups or individuals involved in transnational terrorism; (ii) threats posed by such groups or individuals to the United States, United States persons, or United States interests, or to those of other nations; (iii) communications of or by such groups or individuals; or (iv) information relating to groups or individuals reasonably believed to be assisting or associated with such groups or individuals.

Sec. 8. General Provisions. (a) This order:

(i)

shall be implemented in a manner consistent with applicable law, including Federal law protecting the information privacy and other legal rights of Americans, and subject to the availability of appropriations;

(ii)

shall be implemented in a manner consistent with the authority of the principal officers of agencies as heads of their respective agencies, including under section 199 of the Revised Statutes (22 U.S.C. 2651), section 201 of the Department of Energy Reorganization Act (42 U.S.C. 7131), section 102(a) of the Homeland Security Act of 2002 (6 U.S.C. 112(a)), and sections 301 of title 5, 113(b) and 162(b) of title 10, 503 of title 28, and 301(b) of title 31, United States Code; and

(iii)

shall not be construed to impair or otherwise affect the functions of the Director of the Office of Management and Budget relating to budget, administrative, and legislative proposals.

(b) This order and amendments made by this order are intended only to improve the internal management of the Federal Government and are not intended to, and do not, create any rights or benefits, substantive or procedural, enforceable at law or in equity by a party against the United States, its departments, agencies, instrumentalities, or entities, its officers, employees, or agents, or any other person.

B

THE WHITE HOUSE,

August 27, 2004.

[FR Doc. 04-20050

Filed 8-31-04; 8:45 am]

Billing code 3195-01-P